ENVIRONMENTAL PROTECTION AGENCY

[FRL-7849-6]

Proposed CERCLA Administrative Cost Recovery Settlement; Sulphur Bank Mercury Mine Superfund Site

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement with NEC Acquisition Co. for recovery of past response costs concerning closure and abandonment of geothermal wells at the Sulphur Bank Mercury Mine Site in Lake County, California. The settlement requires the settling party to pay $1,700,000 to the EPA Hazardous Substance Superfund for past response costs incurred by EPA at the Site. The settlement includes a covenant not to sue the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 75 Hawthorne Street, San Francisco, CA 94105.

DATES: Comments must be submitted on or before January 18, 2005.

ADDRESSES: The proposed settlement is available for public inspection at EPA Region IX, 75 Hawthorne Street, San Francisco, California. A copy of the proposed settlement may be obtained from Larry Bradfish, EPA Region IX, 75 Hawthorne Street, ORC-3, San Francisco, CA 94105, telephone number (415) 972-3934. Comments should reference the Sulphur Bank Mercury Mine Superfund Site, Lake County, California and EPA Docket No. 2005-01 and should be addressed to Larry Bradfish at the address below.

FOR FURTHER INFORMATION CONTACT: Larry Bradfish, Assistant Regional Counsel (ORC-3), Office of Regional Counsel, U.S. EPA Region IX, 75 Hawthorne Street, San Francisco, CA 94105; phone: (415) 972-3934; fax: (415) 947-3570; e-mail: bradfish.larry@epa.gov.

Dated: December 8, 2004.
Elizabeth Adams,
Acting Director, Superfund Division, Region IX.

[FR Doc. 04-27668 Filed 12-16-04; 8:45 am]

BILLING CODE 6560-50-P